DEPARTMENT OF THE INTERIOR

National Park Service

National Register of Historic Places; Notification of Pending Nominations

Nominations for the following properties being considered for listing in the National Register were received by the National Park Service before August 28, 2004.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 1, 2004.

Carol D. Shull,
Keeper of the National Register of Historic Places.

ALASKA

Matanuska-Susitna Borough-Census Area, Whitney Section House, 3400 W. Neuser Dr., Wasilla, 04001106

ARKANSAS

Mississippi County

Violet Cemetery, Area bounded by W. Johnson Ave., Semmes Ave., Pecan St., Osceola, 04001108

Randolph County

Rice—Upshaw House, AR 93, 2 mi. S of Dalton, Dalton, 04001107

CALIFORNIA

Los Angeles County

Pomona City Stable, 636 W. Monterey Ave., Pomona, 04001109

COLORADO

Arapahoe County

Knight—Wood House, 1860 W. Littleton Blvd., Littleton, 04001111

Delta County

Mathews House, 40647 Matthews Ln., Paonia, 04001110

Weld County

Anderson Barn, (Ornamental Concrete Block Buildings in Colorado MPS) 5255 CO 60, Johnstown, 04001112

LOUISIANA

Webster Parish

Miller Farmstead, 224 LA 518, Minden, 04001113

MASSACHUSETTS

Middlesex County

Rocklawn Cemetery, Stevens St., Marlborough, 04001115

Spring Hill Cemetery, High and Brown Sts., Marlborough, 04001114

NEW YORK

Chemung County

Woodlawn Cemtery and Woodlawn National Cemetery, Walnut and Davis Sts., West Hill and Bancroft Rds., Elmira, 04001117

OHIO

Jefferson County

Toronto World War I Momument, 208 Market St. at Third St., Toronto, 04001116

UTAH

Cache County

Bell—Johnson House, (Richmond, Utah MPS), 12 North 200 East, Richmond, 04001118

Bullen, Newell and Anna S., House, (Richmond, Utah MPS), 211 South 100 East, Richmond, 04001119

Burnham, James and Amy, Farmstead, (Richmond, Utah MPS), 533 S. State St., Richmond, 04001120

Christensen, Carl F. and Sophia, House, (Richmond, Utah MPS) 208 North 200 East, Richmond, 04001121

Hendricks Confectionery Building, (Richmond, Utah MPS), 19 W. Main St., Richmond, 04001122

Hendricks, Layfayette and Elizabeth W., House, (Richmond, Utah MPS), 109 S. State St., Richmond, 04001123

Hendricks, William S. and Margaret R., House, (Richmond, Utah MPS), 112 W. Main St., Richmond, 04001124

Hobson—Hill House, (Richmond, Utah MPS), 108 South 100 West, Richmond, 04001125

Knapp, Morgan A. and Clarissa R., House, (Richmond, Utah MPS) 106 South 100 East, Richmond, 04001126

Merrill, Louis Edgar and Clara H., House, (Richmond, Utah MPS) 244 W. Main St., Richmond, 04001127

Morrison, Hattie Merrill, Farmstead, (Richmond, Utah MPS) 1367 S. State St., Richmond, 04001128

Plant Auto Company Building, (Richmond, Utah MPS) 38 South 200 West (UT 91), Richmond, 04001129

Richmond City Grandstand and Recreation Park, (Richmond, Utah MPS) Approx. 50 S. State St., Richmond, 04001130

Webb, S. Milton and Alba C., House, (Richmond, Utah MPS) 143 S. State St., Richmond, 04001131

VERMONT

Chittenden County

Burlington Traction Company, 662 Riverside Ave., includes 321-343 N. Winooski Ave., Burlington, 04001133

Sutton Farm, (Shelburne, Vermont MPS) 1592 Dorset St., Shelburne, 04001132

WISCONSIN

Clark County

Neilsville Masonic Temple Lodge No. 163, 316 Hewett St., Neillsville, 04001134

[FR Doc. 04-20817 Filed 9-15-04; 8:45 am]

BILLING CODE 4312-51-P